DEPARTMENT OF THE INTERIOR

Bureau of Land Management

[MT-072-1430-ET; MTM-95280]

Notice of Proposed Legislative Withdrawal and Opportunity for Public Meeting; Montana

AGENCY: Bureau of Land Management, Interior.

ACTION: Notice.

SUMMARY: The U.S. Department of the Army, Corps of Engineers, has filed an application requesting the Secretary of the Interior to process, in accordance with the Engle Act (43 U.S.C. 155-158), a proposed legislative withdrawal from surface entry and mining of approximately 18,760 acres of public land located in Broadwater County, Montana. The withdrawal would also reserve the use of the land for military training exercises and public safety. This notice temporarily segregates the land from surface entry and mining for up to two years while the legislative withdrawal application is being processed. The land will remain open to mineral leasing.

DATES: Comments must be received on or before November 5, 2007.

ADDRESSES: Comments should be sent to the State Director, Montana State Office, Bureau of Land Management, 5001 Southgate Drive, Billings, Montana 59101.

FOR FURTHER INFORMATION CONTACT: Richard Hotaling, BLM Butte Field Office, 406-533-7600.

SUPPLEMENTARY INFORMATION: Acting on behalf of the Department of the Army and the Montana Army National Guard Bureau, the U.S. Army Corps of Engineers, has filed an application requesting the Secretary of the Interior to process a legislative withdrawal pursuant to the Engle Act (43 U.S.C. 155-158). The withdrawal would withdraw and reserve the following-described public land located in Broadwater County, Montana, from settlement, sale, location or entry under the general land laws, including the mining laws, subject to valid existing rights, for use as a military training range:

Principal Meridian, Montana

T. 6 N., R. 1 E.,

Sec. 2, lots 1 to 4, inclusive, S½N½, N½SW¼, SE¼SW¼, and SE¼;

Sec. 3, lots 1 to 4, inclusive, S½N¼, and S½;

Sec. 4, lots 1 to 4, inclusive, S½N¼, and S½;

Sec. 5, lots 1 and 2, S½NE¼, and SE¼;

Sec. 8, E½ and E½SW¼;

Secs. 9 and 10;

Sec. 11, E½, E½W½, and SW¼SW¼;

Sec. 12, lots 1 to 4, inclusive, W½E½ and W½;

Sec. 13, lots 1 to 4, inclusive, W½E½ and W½;

Secs. 14 and 15;

Sec. 17, E½ and E½W½;

Sec. 20, E½ and E½W½;

Sec. 21;

Sec. 22, lots 3 and 4, W½NW¼, and S½SW¼;

Sec. 23;

Sec. 24, lots 1 to 4, inclusive, W½E½ and W½;

Sec. 25, lots 1 to 4, inclusive, W½E½ and W½;

Sec. 26;

Sec. 27, lots 1 to 9, inclusive, NE¼NE¼, S½NE¼, and SE¼;

Sec. 28, lots 1 to 4, inclusive, N½NE¼, W½, and W½SE¼;

Sec. 29, NE¼, E½NW¼, NE¼SW¼, N½SE¼, and SW¼SE¼;

Sec. 33, E½;

Sec. 34, lots 1 to 8, inclusive, NE¼, N½NW ¼, and N½SE¼;

Sec. 35, lots 1 to 4, inclusive, N½ and N½S½.

T. 6 N., R. 2 E.,

Sec. 17, S½SW¼;

Sec. 18, lot 4, SE¼SW¼, and S½SE¼;

Sec. 19, lots 1, 2, and 3;

Sec. 20, W½;

Sec. 30, lots 2, 3, and 4, NE¼NE¼, S½NE¼, SE¼NW¼, E½SW¼, and SE¼.

T. 7 N., R. 1 E.,

Sec. 26, S½;

Sec. 27, lots 5 to 8, inclusive, and S½S½;

Sec. 28, S½SE¼;

Sec. 32, E½ except patented lands;

Secs. 33, 34 and 35.

The area described contains 18,760.63 acres in Broadwater County.

The purpose of the proposed legislative withdrawal is to withdraw and reserve the land for use as a military training range, involving live-fire exercises, necessary for national security. Public safety will be taken into account. The withdrawal would be established by an act of Congress, approved by the President. The duration of the withdrawal would be determined by Congress.

The use of a right-of-way or cooperative agreement would not provide adequate authorization for the use of this area due to the broad scope of military training exercises as well as the non-discretionary nature of the general mining laws.

There are no suitable alternative sites. The land hereinabove described is unique in having been used previously as a military training range. The use of a different site would needlessly degrade a Second site.

Potable water from two wells would be used during day-use training exercises.

The application and the records relating to the application can be examined by interested persons at the BLM Butte Field Office, 106 North Parkmont, Butte, Montana 59701, or Montana Army National Guard Fort Harrison, 900 Williams Street, Helena, Montana 59604.

On or before November 5, 2007 all persons who wish to submit comments, suggestions, or objections in connection with the proposed legislative withdrawal may present their views in writing to the BLM, Montana State Director at the address indicated above.

Comments, including names and street addresses of respondents, will be available for public review at the BLM Montana State Office at the address above during regular business hours.

Before including your address, phone number, e-mail address, or other personal identifying information in your comment, you should be aware that your entire comment—including your personal identifying information—may be made publicly available at any time. While you can ask us in your comment to withhold from public review your personal identifying information from public review, we cannot guarantee that we will be able to do so.

The proposed legislative withdrawal was discussed at five public meetings, as part of the scoping process for the legislative withdrawal environmental impact statement. Additional public meetings will be scheduled following the release of the draft legislative withdrawal environmental impact statement.

This withdrawal proposal will be processed in accordance with the regulations set forth in 43 CFR part 2300.

For a period of two years from the date of publication of this notice in the Federal Register, the land will be segregated as specified above unless the application is denied or canceled or the withdrawal is approved prior to that date. Land uses currently permitted under the existing right-of-way agreement may continue during the segregative period. If the proposed legislative withdrawal has been submitted to Congress but not enacted into law by the end of the two-year segregation period, consideration will be given to entertaining an application for a temporary withdrawal in aid of pending legislation.

(Authority: 43 CFR 2310.3-1(b)(1))

Howard A. Lemm,
Acting State Director.

[FR Doc. E7-15366 Filed 8-6-07; 8:45 am]

BILLING CODE 4310-$$-P